DEPARTMENT OF TRANSPORTATION

Federal Aviation Administration

Agency Information Collection Activities: Requests for Comments; Clearance of Renewed Approval of Information Collection: Reporting of Information Using Special Airworthiness Information Bulletin

AGENCY: Federal Aviation Administration (FAA), DOT.

ACTION: Notice and request for comments.

SUMMARY: In accordance with the Paperwork Reduction Act of 1995, FAA invites public comments about our intention to request the Office of Management and Budget (OMB) approval for to renew an information collection. The Federal Register Notice with a 60-day comment period soliciting comments on the following collection of information was published on September 9, 2014. Special Airworthiness Information Bulletins (SAIBs) alert, educate, and make recommendations to the aviation community and aircraft owners/operators on ways to improve products, and may include requests for reporting results from requested actions and inspections.

DATES: Written comments should be submitted by December 19, 2014.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Kathy DePaepe at (405) 954-9362, or by email at: Kathy.DePaepe@faa.gov.

SUPPLEMENTARY INFORMATION:

OMB Control Number: 2120-0731.

Title: Reporting of Information Using Special Airworthiness Information Bulletin.

Form Numbers: There are no FAA forms associated with this collection.

Type of Review: Renewal of an information collection.

Background: The Federal Register Notice with a 60-day comment period soliciting comments on the following collection of information was published on September 9, 2014 (79 FR 53506). An SAIB helps the FAA gather information to determine the necessity of an airworthiness directive. An SAIB alerts, educates, and makes recommendations to the aviation community and to aircraft owners/operators about ways to improve product safety. It contains non-regulatory information and advisory guidance and may include recommended actions or inspections with a request for voluntary reporting of inspection results.

Respondents: Approximately 1,120 owners/operators.

Frequency: Information is collected on occasion.

Estimated Average Burden per Response: 5 minutes.

Estimated Total Annual Burden: 467 hours.

Issued in Washington, DC on November 12, 2014.
Albert R. Spence,
FAA Assistant Information Collection Clearance Officer, IT Enterprises Business Services Division, ASP-110.

[FR Doc. 2014-27303 Filed 11-18-14; 8:45 am]

BILLING CODE 4910-13-P